DEPARTMENT OF TRANSPORTATION

Federal Aviation Administration

14 CFR Part 71

[Docket No. FAA-2023-0444; Airspace Docket No. 22-ASO-16]

RIN 2120-AA66

Amendment of VOR Federal Airways V-71 and V-245, Revocation of VOR Federal Airways V-554 and V-570, and Establishment of RNAV Routes T-471, T-473, and T-474 in the Vicinity of Natchez, MS

AGENCY: Federal Aviation Administration (FAA), DOT.

ACTION: Notice of proposed rulemaking (NPRM).

SUMMARY: This action proposes to amend Very High Frequency (VHF) Omnidirectional Range (VOR) Federal airways V-71 and V-245, revoke VOR Federal airways V-554 and V-570, and establish Area Navigation (RNAV) routes T-471, T-473, and T-474. The FAA is proposing this action due to the planned decommissioning of the VOR portion of the Natchez, MS (HEZ), VOR/Distance Measuring Equipment (VOR/DME) navigational aid (NAVAID). The Natchez VOR is being decommissioned in support of the FAA's VOR Minimum Operational Network (MON) program.

DATES: Comments must be received on or before April 17, 2023.

ADDRESSES: Send comments identified by FAA Docket No. FAA-2023-0444 and Airspace Docket No. 22-ASO-16 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the enroute structure as necessary to preserve the safe and efficient flow of air traffic within the National Airspace System (NAS).

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

The FAA is planning to decommission the Natchez, MS, VOR in October 2023. The Natchez VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Natchez, MS, VOR/DME is planned for decommissioning, the co-located DME portion of the NAVAID is being retained to support NextGen PBN flight procedure requirements.

The VOR Federal airways affected by the Natchez VOR decommissioning are V-71, V-245, V-554, and V-570. With the planned decommissioning of the Natchez VOR, the remaining ground-based NAVAID coverage in the area is insufficient to enable the continuity of the affected airways. As such, the FAA proposes to shorten V-71 and V-245 and revoke V-554 and V-570.

To address the proposed modifications and revocations to the affected Air Traffic Service (ATS) routes, instrument flight rules (IFR) traffic could use portions of adjacent VOR Federal airways, including V-9, V-18, and V-212, or receive air traffic control (ATC) radar vectors to fly around or through the affected area. In addition, the FAA proposes new RNAV routes T-471, T-473, or T-474 that pilots equipped with RNAV capabilities could use to navigate point to point using the existing NAVAIDs and fixes that would remain in place to support continued operations though the affected area. Visual flight rules (VFR) pilots who elect to navigate via the affected VOR Federal airways could also take advantage of the adjacent airways or ATC services listed previously.

The FAA proposes to establish RNAV routes T-471, T-473, and T-474 to provide mitigations to the proposed VOR Federal airway amendments due to the planned Natchez VOR decommissioning. RNAV route T-471 would mitigate the proposed removal of the V-71 airway segment, RNAV route T-473 would mitigate portions of the proposed revocations of V-554 and V-570, and RNAV route T-474 would mitigate the proposed removal of the V-245 airway segment. The new T-routes would reduce ATC sector workload and complexity, reduce pilot-to-controller communication, provide RNAV equipped aircraft an ATS route alternative, and support the FAA's NextGen efforts to modernize the NAS navigation system from a ground-based system to a satellite-based system.

The Proposal

The FAA is proposing to amend 14 CFR part 71 by amending VOR Federal airways V-71 and V-245, revoking V-554 and V-570, and establishing RNAV routes T-471, T-473, and T-474. The ATS route amendments, revocations, and establishments are due to the planned decommissioning of the Natchez, MS, VOR. The proposed ATS route actions are described below.

V-71: V-71 currently extends between the Fighting Tiger, LA, VOR/Tactical Air Navigation (VORTAC) and the Topeka, KS, VORTAC; between the Lincoln, NE, VORTAC and the O'Neill, NE, VORTAC; and between the Pierre, SD, VORTAC and the Williston, ND, VOR/DME. The FAA proposes to remove the airway segment overlying the Natchez, MS, VOR/DME between the Fighting Tiger VORTAC and the Monroe, LA, VORTAC. As amended, the airway would extend between the Monroe VORTAC and the Topeka VORTAC, between the Lincoln VORTAC and the O'Neill VORTAC, and between the Pierre VORTAC and the Williston VOR/DME.

V-245: V-245 currently extends between the Alexandria, LA, VORTAC and the Bigbee, MS, VORTAC. The FAA proposes to remove the airway segment overlying the Natchez, MS, VOR/DME between the Alexandria VORTAC and the Magnolia, MS, VORTAC. As amended, the airway would extend between the Magnolia VORTAC and the Bigbee VORTAC.

V-554: V-554 currently extends between the Natchez, MS, VOR/DME and the Monroe, LA, VORTAC. The FAA proposes to remove the airway in its entirety.

V-570: V-570 currently extends between the Alexandria, LA, VORTAC and the McComb, MS, VORTAC. The FAA proposes to remove the airway in its entirety.

T-471: T-471 is a new RNAV route proposed to extend between the RCOLA, LA, waypoint (WP), located near the Fighting Tiger, LA, VORTAC, and the Monroe, LA, VORTAC. The proposed T-471 would provide mitigation for the proposed removal of the V-71 airway segment between the Fighting Tiger VORTAC and the Monroe VORTAC. This new route would provide RNAV routing from the Baton Rouge, LA, area northwestward to the Monroe, LA, area. The full T-471 route description is listed in the amendments to part 71 as set forth below.

T-473: T-473 is a new RNAV route proposed to extend between the ICEKI, MS, WP and the Monroe, LA, VORTAC. The proposed T-473 would provide mitigation for the proposed revocation of V-570 between the Mc Comb VORTAC and the Natchez VOR/DME and for the proposed revocation of V-554 between the Natchez VOR/DME and Monroe VORTAC. This new route would provide RNAV routing from the McComb, MS, area northwestward to the Monroe, LA, area. The full T-473 route description is listed in the amendments to part 71 as set forth below.

T-474: T-474 is a new RNAV route proposed to extend between the Alexandria, LA, VORTAC and the Magnolia, MS, VORTAC. The proposed T-474 would provide mitigation to the proposed removal of the V-245 airway segment between the Alexandria VORTAC and the Magnolia VORTAC. This new T-route would provide RNAV routing from the Alexandria, LA, area northeastward to the Magnolia, MS, area. The full T-474 route description is listed in the amendments to part 71 as set forth below.

All NAVAID radials listed in the V-71 description below are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-71 [Amended]

From Monroe, LA; El Dorado, AR; Hot Springs, AR; INT Hot Springs 358° and Harrison, AR, 176° radials; Harrison; Springfield, MO; Butler, MO; to Topeka, KS. From Lincoln, NE; Columbus, NE; to O'Neill, NE. From Pierre, SD; Bismarck, ND; to Williston, ND.

* * * * *

V-245 [Amended]

From Magnolia, MS; to Bigbee, MS.

* * * * *

V-554 [Removed]

* * * * *

V-570 [Removed]

* * * * *

Paragraph 6011 United States Area Navigation Routes.

* * * * *

T-471 RCOLA, LA to Monroe, LA (MLU) [New]
RCOLA, LA | WP | (Lat. 30°29′06.52″ N, long. 091°17′37.96″ W)
NTCHZ, MS | WP | (Lat. 31°37′05.81″ N, long. 091°17′58.18″ W)
Monroe, LA (MLU) | VORTAC | (Lat. 32°31′00.77″ N, long. 092°02′09.65″ W)
* * * * * * *
T-473 ICEKI, MS to Monroe, LA (MLU) [New]
ICEKI, MS | WP | (Lat. 31°18′16.12″ N, long. 090°15′28.85″ W)
NTCHZ, MS | WP | (Lat. 31°37′05.81″ N, long. 091°17′58.18″ W)
TULLO, LA | WP | (Lat. 31°58′47.77″ N, long. 091°48′24.56″ W)
Monroe, LA (MLU) | VORTAC | (Lat. 32°31′00.77″ N, long. 092°02′09.65″ W)
* * * * * * *
T-474 Alexandria, LA (AEX) to Magnolia, MS (MHZ) [New]
Alexandria, LA (AEX) | VORTAC | (Lat. 31°15′24.23″ N, long. 092°30′03.50″ W)
NTCHZ, MS | WP | (Lat. 31°37′05.81″ N, long. 091°17′58.18″ W)
Magnolia, MS (MHZ) | VORTAC | (Lat. 32°26′02.65″ N, long. 090°05′59.18″ W)

* * * * *

Issued in Washington, DC, on February 22, 2023.
Brian Konie,
Acting Manager, Airspace Rules and Regulations.

[FR Doc. 2023-04042 Filed 2-28-23; 8:45 am]

BILLING CODE 4910-13-P